DEPARTMENT OF THE INTERIOR

Office of the Secretary

Agency Information Collection Activities: Proposed Collection; Comment Request; DOI Generic Clearance for the Collection of Qualitative Feedback on Agency Service Delivery

AGENCY: Department of the Interior.

ACTION: 30-Day notice of submission of information collection to the Office of Management and Budget and request for comments.

SUMMARY: As part of a Federal Government-wide effort to streamline the process to seek feedback from the public on service delivery, the U.S. Department of the Interior has submitted a Generic Information Collection Request (Generic ICR): “DOI Generic Clearance for the Collection of Qualitative Feedback on Agency Service Delivery” to OMB for approval under the Paperwork Reduction Act (PRA) (44 U.S.C. 3501 et seq.).

DATES: Comments must be submitted by April 25, 2012.

ADDRESSES: Written comments may be submitted to the Desk Officer for the Department of the Interior (DOI) at the Office of Management and Budget (OMB) via email to OIRA_DOCKET@omb.eop.gov or via facsimile (202) 395-5806. Please also send a copy of your comments to Don Bieniewicz at DOI via email at Donald_Bieniewicz@ios.doi.gov or via facsimile (202) 208-4867.

FOR FURTHER INFORMATION CONTACT: Don Bieniewicz (202) 208-4915. You may also review the submitted ICR online at http://www.reginfo.gov. Follow the instructions to review Department of the Interior collections under review by OMB.

SUPPLEMENTARY INFORMATION:

I. Abstract

The information collection activity will garner qualitative customer and stakeholder feedback in an efficient, timely manner, in accordance with the Administration's commitment to improving service delivery. By qualitative feedback we mean information that provides useful insights on perceptions and opinions, but are not statistical surveys that yield quantitative results that can be generalized to the population of study. This feedback will provide insights into customer or stakeholder perceptions, experiences and expectations, provide an early warning of issues with service, or focus attention on areas where communication, training or changes in operations might improve delivery of products or services. These collections will allow for ongoing, collaborative and actionable communications between the Agency and its customers and stakeholders. It will also allow feedback to contribute directly to the improvement of program management.

Feedback collected under this generic clearance will provide useful information, but it will not yield data that can be generalized to the overall population. This generic clearance for qualitative information will not be used for quantitative information collections that are designed to yield reliably actionable results, such as monitoring trends over time or documenting program performance. Such data uses require more rigorous designs that address: the target population to which generalizations will be made, the sampling frame, the sample design (including stratification and clustering), the precision requirements or power calculations that justify the proposed sample size, the expected response rate, methods for assessing potential non-response bias, the protocols for data collection, and any testing procedures that were or will be undertaken prior to fielding the study.

II. Request for Comments

No comments were received in response to the 60-day notice published in the Federal Register of December 22, 2010 (75 FR 80542). We again request public comments on this proposed information collection. Your comments should address: (a) The necessity of the information collection for the proper performance of the agency, including whether the information will have practical utility; (b) the accuracy of our estimate of the burden; (c) ways we could enhance the quality, utility, and clarity of the information to be collected; and (d) ways we could minimize the burden of the collection on the respondents, such as through the use of automated collection techniques or other information technology.

A Federal agency may not conduct or sponsor, and a person is not required to respond to, a collection of information unless it displays a currently valid Office of Management and Budget control number.

III. Data

OMB Control Number: 1090—NEW.

Title: DOI Generic Clearance for the Collection of Qualitative Feedback on Agency Service Delivery.

Type of Review: New Collection.

Affected Public: Individuals and Households, Businesses and Organizations, State, Local or Tribal Government.

Expected Annual Number of Activities: 400.

Annual Respondents: 100,000 for surveys, 60,000 for comment cards, 1,000 for focus groups.

Frequency of Response: Once per request.

Annual Responses: 100,000 for surveys, 60,000 for comment cards, 1,000 for focus groups.

Average Time per Response: 15 minutes for surveys, 2 minutes for comment cards, 2 hours for focus groups.

Estimated Total Annual Burden Hours: 29,000.

Dated: March 19, 2012.
Benjamin Simon,
Assistant Director, Office of Policy Analysis, U.S. Department of the Interior.

[FR Doc. 2012-7100 Filed 3-23-12; 8:45 am]

BILLING CODE 4310-RK-P